DEPARTMENT OF AGRICULTURE

Food Safety and Inspection Service

[Docket No. FSIS-2013-0047]

Codex Alimentarius Commission: Meeting of the Codex Committee on Food Additives

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services are sponsoring a public meeting on February 11, 2014, from 9 a.m. to 12 p.m. The objective of the public meeting is to provide information and receive public comments on agenda items and draft United States (U.S.) positions that will be discussed at the 46th Session of the Codex Committee on Food Additives (CCFA) of the Codex Alimentarius Commission (Codex), taking place in Hong Kong, China, March 17-21, 2014. The Acting Under Secretary and FDA recognize the importance of providing interested parties the opportunity to obtain background information on the 46th Session of the CCFA and to address items on the agenda.

DATES: The public meeting is scheduled for Tuesday, February 11, 2014, from 9 a.m. to 12 p.m.

ADDRESSES: The public meeting will take place in Rooms 1A-001 and 1A-002, US FDA, Harvey Wiley Federal Building, 5100 Paint Branch Parkway, College Park, MD 20740. Documents related to the 46th Session of the CCFA will be accessible via the World Wide Web at the following address: http://www.codexalimentarius.org/meetings-reports/en/.

The U.S. Delegate to the 46th Session of the CCFA, Susan Carberry, and FDA, invite interested U.S. parties to submit their comments electronically to the following email address: ccfa@fda.hhs.gov.

Registration: Attendees may register by emailing ccfa@fda.hhs.gov by February 7, 2014. Early registration is encouraged because it will expedite entry into the building and its parking area. If you require parking, please include the vehicle make and tag number when you register. Because the meeting will be held in a Federal building, you should also bring photo identification and plan for adequate time to pass through security screening systems. Attendees that are not able to attend the meeting in person but wish to participate may do so by phone. Those wishing to participate by phone should request the call-in number and conference code when they register for the meeting.

FOR FURTHER INFORMATION CONTACT: For Further Information About the 46th Session of the CCFA Contact: Susan Carberry, Ph.D., Supervisory Chemist, Division of Petition Review, Office of Food Additive Safety, Center for Food Safety and Applied Nutrition CFSAN/FDA, HFS-205, 5100 Paint Branch Parkway, College Park, MD 20740; Telephone: (240) 402-1269, Fax: (301) 436-2972, Email: susan.carberry@fda.hhs.gov.

For Further Information About the Public Meeting Contact: Daniel E. Folmer, Ph.D., Review Chemist, Division of Petition Review, Office of Food Additive Safety, CFSAN/FDA HFS-265, 5100 Paint Branch Parkway, College Park, MD 20740; Telephone: (240) 402-1269, Fax: (301) 436-2972, Email: daniel.folmer@fda.hhs.gov.

SUPPLEMENTARY INFORMATION: Background: Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFA establishes or endorses permitted maximum levels for individual food additives; prepares priority lists of food additives for risk assessment by the Joint FAO/WHO Expert Committee on Food Additives (JECFA); assigns functional classes and International Numbering System (INS) numbers to individual food additives; recommends specifications of identity and purity for food additives for adoption by Codex; considers methods of analysis for the determination of additives in food; and considers and elaborates standards or codes for related subjects such as labeling of food additives when sold as such. The CCFA is hosted by China.

Issues To Be Discussed at the Public Meeting

The following items on the agenda for the 46th Session of the CCFA will be discussed during the public meeting:

• Matters referred by the Codex Alimentarius Commission and other Codex committees and Task Forces. (CX/FA 14/46/2)

• Matters of interest arising from FAO/WHO and from the 77th Meeting of the Joint FAO/WHO Expert Committee on Food Additives (JECFA). (CX/FA 14/46/3)

• Endorsement and/or revision of maximum levels for food additives and processing aids in Codex standards. (CX/FA 14/46/4)

• Alignment of the food additive provisions of commodity standards and relevant provisions of the GSFA. (CX/FA 14/46/5)

• Revision of the Guidelines for the Simple Evaluation of Food Additive Intakes (CAC/GL 3-1989) (N08-2013). (CX/FA 14/46/6)

• Information on commercial use of selected food additives (replies to CL 2013/8-FA, Part B, point 4). (CX/FA14/46/7)

• Provisions in Tables 1 and 2 for food additives listed in Table 3 with “emulsifier, stabilizer and thickener” function, and horizontal approach—outstanding provisions from 45th CCFA. (CX/FA 14/46/8)

• Provisions in Tables 1 and 2 for food additives listed in Table 3 with: (i) “Acidity regulator” function for use other than as acidity regulators; and (ii) for other Table 3 food additives with functions other than “emulsifier, stabilizer, thickener,” “color,” and “sweetener.” (CX/FA 14/46/9)

• Food additive provisions of food category 14.2.3, “Grape wines,” and its sub-categories. (CX/FA 14/46/10)

• Descriptors and food additive provisions of food category 01.1.1, “Milk and butter milk (plain),” and its sub-categories and food category 01.1.2, “Dairy-based drinks, flavored and/or fermented (e.g., chocolate milk, cocoa, eggnog, drinking yoghurt, whey-based drinks).” (CX/FA 14/46/11)

• Recommendations for the entry of new provisions, including those for food category 16.0, “Prepared foods,” and for revision of existing food additive provisions (based on replies to CL 2012/5-FA, Part B, points 9 and 10). (CX/FA 14/46/12)

• Proposals for provisions of nisin (INS 234) in food category 08.0, “Meat and meat products, including poultry and game,” and its sub-categories (replies to CL 2012/5-FA, Part B, point 8)—outstanding from 45th CCFA. (CX/FA 14/46/13)

• Discussion paper on use of Note 161 in provisions for selected sweeteners. (CX/FA 14/46/14)

• Proposals for new and/or revision of food additive provisions (replies to CL 2013/8-FA Part B, point 5). (CX/FA 14/46/15)

• Proposed draft amendments to the International Numbering System (INS) for Food Additives. (CX/FA 14/46/16)

• Proposed draft specifications for the Identity and Purity of food additives arising from the 77th JECFA Meeting. (CX/FA 14/46/17)

• Discussion paper on the use of “additives in additives” (secondary additives). (CX/FA 14/46/18)

• Proposals for additions and changes to the Priority List of Food Additives proposed for evaluation by JECFA (replies to CL 2013/12-FA). (CX/FA14/46/19)

• Discussion paper on options for the use of outcomes of the prioritization exercise and other feasible steps to identify compounds for re-evaluation by JECFA. (CX/FA 14/46/20)

Each issue listed will be fully described in documents distributed, or to be distributed, by the Codex Secretariat prior to the meeting. Members of the public may access these documents at ftp://ftp.fao.org/codex/meetings/CCFA/ccfa46/.

Public Meeting

At the February 11, 2014 public meeting, draft U.S. positions on the agenda items will be described and discussed, and attendees will have the opportunity to pose questions and offer comments. Written comments may be offered at the meeting or sent to the U.S. Delegate for the 45th Session of the CCFA, Dr. Susan Carberry at the following address: ccfa@fda.hhs.gov. Written comments should state that they relate to activities of the 46th Session of the CCFA.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service.

Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on January 8, 2014.
Mary Frances Lowe,
U.S. Manager for Codex Alimentarius.

[FR Doc. 2014-00816 Filed 1-16-14; 8:45 am]

BILLING CODE 3410-DM-P